DEPARTMENT OF HEALTH AND HUMAN SERVICES

Centers for Disease Control and Prevention

Meeting of the Board of Scientific Counselors, National Center for Injury Prevention and Control

AGENCY: Centers for Disease Control and Prevention (CDC), Department of Health and Human Services (HHS).

ACTION: Notice of open and closed meeting.

SUMMARY: In accordance with the Federal Advisory Committee Act, the Centers for Disease Control and Prevention (CDC) announces the following meeting for the Board of Scientific Counselors, National Center for Injury Prevention and Control (BSC, NCIPC). This meeting will take place in person and virtually and is partially open to the public.

DATES: The meeting will be held on June 5, 2024, from 1 p.m. to 4 p.m., EDT (Closed); and June 6, 2024, from 10 a.m. to 3:30 p.m., EDT (Open). The public comment period will be at the end of the open session of the meeting on June 6, 2024, from 3:10 p.m. to 3:25 p.m., EDT.

ADDRESSES: Centers for Disease Control and Prevention, Chamblee Campus, Building 106, Conference Room 1-B, 4770 Buford Highway NE, Atlanta, Georgia 30341. The conference room will have seating for approximately 100 people for the open session of the meeting.

Please note that the meeting location is a federal facility and in-person access is limited to United States citizens unless prior authorizations, taking up to 30 to 60 days, have been made. Visitors must follow all directions for access to CDC facilities. Directions for visitors to CDC, including safety requirements related to COVID-19, are available at https://www.cdc.gov/screening/visitors.html.

If you wish to attend the open session of the meeting in person, please submit a request by email to Mrs. Tonia Lindley at TLindley@cdc.gov at least 5 business days in advance of the meeting.

If you wish to attend the open session of the meeting virtually, please register in advance by accessing the link at: https://cdc.zoomgov.com/webinar/register/WN_X5RXABmES3u_tsbMJdSJkg. Instructions to access the Zoom virtual meeting will be provided in the link following registration.

FOR FURTHER INFORMATION CONTACT: Christopher R. Harper, Ph.D., Designated Federal Officer, Board of Scientific Counselors, National Center for Injury Prevention and Control, Centers for Disease Control and Prevention, 4770 Buford Highway NE, Mailstop S-1069, Atlanta, Georgia 30341. Telephone: (404) 718-8330; Email: ncipcbsc@cdc.gov.

SUPPLEMENTARY INFORMATION: Portions of the meeting referenced above will be closed to the public in accordance with provisions set forth in section 552b(c)(4) and (6), Title 5, U.S.C., and the Determination of the Director, Office of Strategic Business Initiatives, Office of the Chief Operating Officer, Centers for Disease Control and Prevention (CDC), pursuant to 5 U.S.C. 1009(d) (Pub. L. 92-463, as amended).

Purpose: The Board of Scientific Counselors, National Center for Injury Prevention and Control (BSC, NCIPC) will: (1) conduct, encourage, cooperate with, and assist other appropriate public health authorities, scientific institutions, and scientists in the conduct of research, investigations, experiments, demonstrations, and studies relating to the causes and strategies related to the prevention of injury, overdose, and violence; (2) assist States and other entities in preventing intentional and unintentional injuries, and to promote health and well-being; and (3) make recommendations of grants and cooperative agreements for research and prevention activities related to injury, overdose, and violence. The BSC, NCIPC makes recommendations regarding policies, strategies, objectives, and priorities and reviews progress toward injury, overdose, and violence prevention. The Board also provides advice on the appropriate balance of intramural and extramural research and provides guidance on the needs, structure, progress, and performance of intramural programs. Further, the Board provides guidance on extramural scientific program matters. Additionally, the Board provides second-level scientific and programmatic review of applications for research grants, cooperative agreements, and training grants related to injury, overdose, and violence prevention, and recommends approval of projects that merit further consideration for funding support. The Board also provides feedback and input on strategic plans, resources, and priority publications related to injury, overdose, and violence prevention.

Matters to be Considered: The closed session of the meeting (Day 1) will focus on the secondary peer review of extramural research grant applications received in response to three (3) Notices of Funding Opportunity: RFA-CE-22-003—“Rigorously Evaluating Programs and Policies to Prevent Child Sexual Abuse (CSA)”; RFA-CE-24-012—“Rigorous Evaluation of Policy-Level Interventions to Prevent Overdose (R01)”; and RFA-CE-24-030—“Research Grants for Preventing Violence and Violence Related Injury (R01).” The open session of the meeting (Day 2) will include discussions on Enhancing CDC's Efforts to Promote Mental Health and Reduce Overdose and Suicide: CDC's New Behavioral Health Coordinating Unit; the 2024 National Strategy for Suicide Prevention and Action Plan; Updated Sexual Violence Research Priorities; Leveraging High-Quality Data from the Violence Against Children and Youth Survey to Demonstrate Reductions in Population Prevalence of Violence against Children; and Division of Overdose Prevention Portfolio Review, 2018-2023: Informing the 2025 Update to the Overdose Prevention Research Priorities. Agenda items are subject to change as priorities dictate.

The Director, Office of Strategic Business Initiatives, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Office of Strategic Business Initiatives, Office of the Chief Operating Officer, Centers for Disease Control and Prevention.

[FR Doc. 2024-10301 Filed 5-10-24; 8:45 am]

BILLING CODE 4163-18-P